DEPARTMENT OF ENERGY

Federal Energy Regulatory Commission

[Project No. 12790-007]

Andrew Peklo, III, Pomperaug Hydro LLC; Notice of Application for Transfer of License and Soliciting Comments, Motions To Intervene, and Protests

On September 24, 2018, Andrew Peklo, III (transferor) and Pomperaug Hydro LLC (transferee) filed an application for the transfer of license of the Pomperaug Hydro Project No. 12790. The project is located on the Pomperaug River in Litchfield County, Connecticut. The project does not occupy Federal lands.

The applicants seek Commission approval to transfer the license for the Pomperaug Hydro Project from the transferor to the transferee.

Applicants Contact: For transferor: Mr. Andrew Peklo, III, 29 Pomperaug Road, Woodbury, CT 06798, Phone: 203-263-4566, Email: themill@charter.net.

For transferee: Mr. Paul V. Nolan, Esq., 5515 17th Street North, Arlington, VA 22205-2722, Phone: (703) 534-5905, Email: pvnpvndiver@gmail.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-12790-007.

Dated: October 11, 2018.
Kimberly D. Bose,
Secretary.

[FR Doc. 2018-22612 Filed 10-16-18; 8:45 am]

BILLING CODE 6717-01-P